DEPARTMENT OF ENERGY

Federal Energy Regulatory Commission

[Docket Nos. EF08-2011-000 and RM08-20-000]

Sales of Electric Power to the Bonneville Power Administration; Revisions to the 2008 Average System Cost Methodology; Notice of Opportunity To File Reply Comments

November 21, 2008.

On November 10, 2008, Bonneville and other interested parties filed comments in the above-referenced dockets on an Interim Rule that implements Bonneville's revised Average System Cost Methodology. In its comments, Bonneville included revisions to the regulations promulgated by the Interim Rule in Part 301 of the Commission's regulations. Bonneville requests the Commission to provide an opportunity for reply comments on its proposed revised regulations.

In response to Bonneville's request, interested parties may file reply comments in the above-referenced dockets on or before December 15, 2008. Parties must use the filing procedures provided for the initial comments in these proceedings.

Kimberly D. Bose,
Secretary.

[FR Doc. E8-28284 Filed 11-26-08; 8:45 am]

BILLING CODE 6717-01-P